DEPARTMENT OF ENERGY

[OE Docket No. EA-264-B]

Application To Export Electric Energy; ENMAX Energy Marketing, Inc.

AGENCY: Office of Electricity Delivery and Energy Reliability, DOE.

ACTION: Notice of application.

SUMMARY: ENMAX Energy Marketing, Inc. (ENMAX) has applied to renew its authority to transmit electric energy from the United States to Canada pursuant to section 202(e) of the Federal Power Act.

DATES: Comments, protests, or requests to intervene must be submitted on or before May 14, 2009.

ADDRESSES: Comments, protests or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On May 30, 2002, the Department of Energy (DOE) issued Order No. EA-264 authorizing ENMAX to transmit electric energy from the United States to Canada as a power marketer using international transmission facilities located at the United States border with Canada. On May 19, 2004, DOE issued Order No. EA-264-A which renewed that authorization for a five-year period. That Order will expire on May 19, 2009. On April 7, 2009, ENMAX filed an application with DOE to renew the export authority contained in Order No. EA-264-A for an additional five-year term.

The electric energy which ENMAX proposes to export to Canada would be surplus energy purchased from electric utilities, Federal power marketing agencies, and other entities within the United States.

The construction, operation, maintenance, and connection of each of the international transmission facilities to be utilized by ENMAX has previously been authorized by a Presidential permit issued pursuant to Executive Order 10485, as amended.

Procedural Matters: Any person desiring to become a party to these proceedings or to be heard by filing comments or protests to this application should file a petition to intervene, comment, or protest at the address provided above in accordance with sections 385.211 or 385.214 of the Federal Energy Regulatory Commission's Rules of Practice and Procedures (18 CFR 385.211, 385.214). Fifteen copies of each petition and protest should be filed with DOE on or before the date listed above.

Comments on the ENMAX application to export electric energy to Canada should be clearly marked with Docket No. EA-264-B. Additional copies are to be filed directly with Penny Haldane, Regulatory Affairs Specialist, ENMAX Corporation, 141-50 Ave SE, Calgary, AB T2G 4S7. A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.Hopkins@hq.doe.gov.

Issued in Washington, DC, on April 8, 2009.
Anthony J. Como,
Director, Permitting and Siting, Office of Electricity Delivery and Energy Reliability.

[FR Doc. E9-8489 Filed 4-13-09; 8:45 am]

BILLING CODE 6450-01-P